DEPARTMENT OF HOMELAND SECURITY

Coast Guard

33 CFR Part 165

[Docket No. USCG-2013-0214]

Safety Zones; Recurring Events in Captain of the Port Duluth Zone—Duluth Fourth Fest Fireworks

AGENCY: Coast Guard, DHS.

ACTION: Notice of enforcement of regulation.

SUMMARY: The Coast Guard will enforce the Safety Zone for the Duluth Fourth Fest Fireworks in Duluth, MN from 7 p.m. through 11 p.m. on July 4, 2014. This action is necessary to protect spectators during the Duluth Fourth Fest Fireworks show. During the enforcement period, entry into, transiting, or anchoring within the safety zone is prohibited unless authorized by the Captain of the Port Duluth or his designated on-scene representative.

DATES: The regulations in 33 CFR 165.943(b) will be enforced from 7 p.m. through 11 p.m. on July 4, 2014 for the Duluth Fourth Fest Fireworks safety zone described in § 165.943(a)(3).

FOR FURTHER INFORMATION CONTACT: If you have questions on this document, call or email LT Judson Coleman, Chief of Waterways Management, Coast Guard; telephone (218) 725-3818, email Judson.A.Coleman@uscg.mil.

SUPPLEMENTARY INFORMATION: The Coast Guard will enforce the safety zone for the annual Duluth Fourth Fest Fireworks in 33 CFR 165.943(a)(3) from 7 p.m. through 11 p.m. July 4, 2014 on all U.S. navigable waters of the Duluth Harbor Basin Northern Section within a 900-foot radius of position 46°46′19.00″ N, 092°06′11.00″ W.

Entry into, transiting, or anchoring within the safety zone is prohibited unless authorized by the Captain of the Port Duluth or his designated on-scene representative. The Captain of the Port's designated on-scene representative may be contacted via VHF Channel 16.

This document is issued under authority of 33 CFR 165.943 and 5 U.S.C. 552(a). In addition to this publication in the Federal Register, the Coast Guard will provide the maritime community with advance notification of the enforcement of this safety zone via Broadcast Notice to Mariners. The Captain of the Port Duluth or his on-scene representative may be contacted via VHF Channel 16.

Dated: June 4, 2014.
A.H. Moore, Jr.,
Commander, U.S. Coast Guard, Captain of the Port Duluth.

[FR Doc. 2014-14492 Filed 6-20-14; 8:45 am]

BILLING CODE 9110-04-P